DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Randall P. French, Ph.D., Fox Chase Cancer Center: Based on the report of an investigation conducted by the Fox Chase Cancer Center (FCCC) and additional analysis conducted by ORI in its oversight review, the U.S. Public Health Service (PHS) finds that Dr. French, postdoctoral associate, FCCC, engaged in scientific misconduct by fabricating published research supported by National Cancer Institute (NCI), National Institutes of Health (NIH), grants T32 CA09035 and P30 CA06927.

Specifically, Dr. French fabricated research results published in Developmental Biology 217:62-76, 2000, by falsely claiming in the text and Table 1 that he had assayed mouse embryos transgenic for a modified DNA construct (cG5/lacZ-F) for a study on the expression of cGATA-5 transcription factor during heart development in mice. An erratum replacing the fabricated data was published by the authors in Developmental Biology 223:463, 2000.

Dr. French has accepted the PHS finding and has entered into a Voluntary Exclusion Agreement with PHS in which he has voluntarily agreed for a period of three (3) years, beginning on September 28, 2000:

(1) To exclude himself from serving in any advisory capacity to PHS, including but not limited to service on any PHS advisory committee, board, and/or peer review committee;

(2) That any institution that submits an application for PHS support for a research project on which Dr. French's participation is proposed or that uses Dr. French in any capacity on PHS supported research, or that submits a report of PHS-funded research in which Dr. French is involved, must concurrently submit a plan for supervision of his duties to the funding agency for approval. The supervisory plan must be designed to ensure the scientific integrity of Dr. French's research contribution. The institution must also submit a copy of the supervisory plan to ORI.

FOR FURTHER INFORMATION CONTACT: Director, Division of Investigative Oversight, Office of Research Integrity, 5515 Security Lane, Suite 700, Rockville, MD 20852, (301) 443-5330.

Chris Pascal,
Director, Office of Research Integrity.

[FR Doc. 00-26538 Filed 10-13-00; 8:45 am]

BILLING CODE 4160-17-P